DEPARTMENT OF COMMERCE

International Trade Administration

[A-570-832]

Pure Magnesium From the People's Republic of China: Amended Final Results of Antidumping Duty Administrative Review; 2022-2023

AGENCY: Enforcement and Compliance, International Trade Administration, Department of Commerce.

SUMMARY: The U.S. Department of Commerce (Commerce) is amending the final results of the administrative review of the antidumping duty order on pure magnesium from the People's Republic of China (China). The period of review is May 1, 2022, through April 30, 2023.

DATES: Applicable January 21, 2025.

FOR FURTHER INFORMATION CONTACT: John Conniff, AD/CVD Operations, Office III, Enforcement and Compliance, International Trade Administration, U.S. Department of Commerce, 1401 Constitution Avenue NW, Washington, DC 20230; telephone: (202) 482-1009.

SUPPLEMENTARY INFORMATION:

Background

On December 13, 2024, Commerce published the Final Results of the 2022-2023 administrative review of pure magnesium from China.¹ On December 13, 2024, Commerce received a timely filed allegation of ministerial errors from Tianjin Magnesium Metal Co., Ltd. (MMC) concerning the Final Results.² On December 16, 2024, we received comments concerning a ministerial error in the final margin calculation from US Magnesium LLC, (the petitioner).³ The review covers MMC and its affiliate, Tianjin Magnesium International Co., Ltd. (TMI).⁴

¹ See Pure Magnesium From the People's Republic of China: Final Results of Antidumping Duty Administrative Review; 2022-2023, 89 FR 100967 (December 13, 2024) (Final Results), and accompanying Issues and Decision Memorandum (IDM).

² See MMC's Letter, “Ministerial Error Allegations,” dated December 13, 2024 (MMC Ministerial Allegation).

³ See Petitioner's Letter, “Petitioner's Submission of Ministerial Error Comments,” dated December 16, 2024 (Petitioner Ministerial Allegation).

⁴ In the 2011-2012 administrative review, Commerce collapsed both TMI and MMC into a single entity. See Final Results IDM at 2.

Legal Framework

Section 751(h) of the Tariff Act of 1930, as amended (the Act) and 19 CFR 351.224(f) define a “ministerial error” as including “errors in addition, subtraction, or other arithmetic function, clerical errors resulting from inaccurate copying, duplication, or the like, and any other unintentional error which the administering authority considers ministerial.” With respect to final results of administrative reviews, 19 CFR 351.224(e) provides that Commerce “will analyze any comments received and, if appropriate, correct any ministerial error by amending . . . the final results of review . . .”

Ministerial Errors

Commerce reviewed the record, and we agree that the errors alleged by MMC and the petitioner constitute ministerial errors within the meaning of section 751(h) of the Act and 19 CFR 351.224(f). Specifically, with regard to MMC's allegations, we find that we made inadvertent errors relating to the calculation of transportation costs for packing materials and for the calculation of revised brokerage and handling expenses.⁵ We also agree with the petitioner that Commerce should have multiplied the labor fields by their relevant surrogate values.⁶ Pursuant to 19 CFR 351.224(e), Commerce is amending the Final Results to reflect the correction of the ministerial errors, as described in the Ministerial Error Memorandum.⁷ Based on the corrections, MMC's final dumping margin has changed from 32.60 percent to 25.26 percent. The amended estimated weighted-average dumping margins are listed in the “Amended Final Results of Review” section below. For a complete discussion of the ministerial error allegations, as well as Commerce's analysis, see the accompanying Ministerial Error Memorandum. The Ministerial Error Memorandum is on file electronically via ACCESS. ACCESS is available to registered users at https://access.trade.gov.

⁵ See MMC Ministerial Allegation at 1-2.

⁶ See Petitioner Ministerial Allegation at 1-2.

⁷ See Memorandum, “Analysis of Ministerial Error Allegations,” dated concurrently with this notice (Ministerial Error Memorandum).

Amended Final Results of Review

As a result of correcting the ministerial errors, Commerce determines that the following weighted-average dumping margin exists for the period May 1, 2022, through April 30, 2023:

Exporter | Weighted- average dumping margin (percent)
Tianjin Magnesium International Co., Ltd./Tianjin Magnesium Metal Co., Ltd | 25.26

Disclosure

Commerce intends to disclose the calculations performed in connection with these amended final results of review to interested parties within five days after public announcement of the amended final results or, if there is no public announcement, within five days of the date of publication of the notice of amended final results in the Federal Register, in accordance with 19 CFR 351.224(b).

Assessment Rate

Pursuant to section 751(a)(2)(C) of the Act and 19 CFR 351.212(b)(1), Commerce has determined, and U.S. Customs and Border Protection (CBP) shall assess, antidumping duties on all appropriate entries of subject merchandise in accordance with these amended final results of the administrative review.

For MMC/TMI, which have a final amended weighted-average dumping margin that is not zero or de minimis (i.e., less than 0.5 percent), we will calculate importer-specific assessment rates, in accordance with 19 CFR 351.212(b)(1). Pursuant to 19 CFR 351.212(b)(1), where the respondent reported the entered value of its U.S. sales, we will calculate importer-specific ad valorem assessment rates based on the ratio of the total amount of dumping calculated for the examined sales to the total entered value of the sales for which entered value was reported. Where the respondent did not report entered value, we will calculate importer-specific per-unit duty assessment rates based on the ratio of the total amount of antidumping duties calculated for the examined sales to the total quantity of those sales. To determine whether an importer-specific per-unit assessment rate is de minimis in accordance with 19 CFR 351.106(c)(2), we will also calculate an importer-specific ad valorem ratio based on estimated entered values.

Pursuant to a refinement in our non-market economy practice, for sales that were not reported in the U.S. sales data submitted by MMC/TMI, we will instruction CBP to liquidate entries associated with those sales at the rate for the China-wide entity (i.e., 111.73 percent).⁸

⁸ See Pure Magnesium from the People's Republic of China: Final Results of the 2008-2009 Antidumping Duty Administrative Review of the Antidumping Duty Order, 75 FR 80791 (December 23, 2010).

The amended final results of this review shall be the basis for the assessment of antidumping duties on entries of merchandise covered by the amended final results of this review and for future deposits of estimated duties, where applicable.⁹

⁹ See section 751(a)(2)(C) of the Act.

Commerce intends to issue assessment instructions to CBP no earlier than 35 days after the date of publication of the amended final results of this review in the Federal Register. If a timely summons is filed at the U.S. Court of International Trade, the assessment instructions will direct CBP not to liquidate relevant entries until the time for parties to file a request for a statutory injunction has expired (i.e., within 90 days of publication).

Cash Deposit Requirements

Upon publication of this notice in the Federal Register the following cash deposit requirements will be effective for all shipments of the subject merchandise from China entered, or withdrawn from warehouse, for consumption on or after December 13, 2024, the publication date of the Final Results, as provided by section 751(a)(2)(C) of the Act: (1) the amended cash deposit rate for MMC/TMI will be equal to the weighted-average dumping margin that is established in the amended final results of this review; (2) for previously investigated or reviewed Chinese and non-Chinese exporters not listed above that received a separate rate in a prior segment of this proceeding, the cash deposit rate will continue to be the existing exporter-specific rate published for the most recently completed segment of this proceeding; (3) for all Chinese exporters of subject merchandise that have not been found to be entitled to a separate rate, the cash deposit rate will be the rate for the China-wide entity; and (4) for all non-Chinese exporters of subject merchandise that have not received their own separate rate, the cash deposit rate will be the rate applicable to the Chinese exporter that supplied that non- Chinese exporter. These deposit requirements, when imposed, shall remain in effect until further notice.

Notification to Importers

This notice also serves as a final reminder to importers of their responsibility under 19 CFR 351.402(f) to file a certificate regarding the reimbursement of antidumping duties prior to liquidation of the relevant entries during the period of review. Failure to comply with this requirement could result in Commerce's presumption that reimbursement of antidumping duties occurred and the subsequent assessment of doubled antidumping duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(h) and 777(i)(1) of the Act, and 19 CFR 351.224(e).

Dated: January 13, 2025.
Abdelali Elouaradia,
Deputy Assistant Secretary for Enforcement and Compliance.

[FR Doc. 2025-01304 Filed 1-17-25; 8:45 am]

BILLING CODE 3510-DS-P